DEPARTMENT OF COMMERCE

International Trade Administration

Business Development Trade Mission to Baghdad, Iraq

AGENCY: International Trade Administration, Department of Commerce.

ACTION: Notice.

Mission Description

The United States Department of Commerce, International Trade Administration, U.S. and Foreign Commercial Service (US&FCS) is organizing a trade mission to Baghdad, Iraq. This mission is scheduled for October 2010* and has been created to assist U.S. firms find business partners and sell equipment and services in the promising Iraqi market. This mission will be led by a Senior Commerce Department official*. Nearly two thirds of Iraq's 112 billion dollar economy relies on our target export industries such as petrochemical technology and machinery. Therefore, our targeted sectors include, but are not limited to: oil and gas (including oil field and upstream equipment, technology, and services); construction (including engineering, architecture, transportation, and infrastructure); and information and communications technology. The mission's goal is to provide U.S. participants with first-hand market information, access to government decision makers as appropriate from the Government of Iraq (GOI), as well as one-on-one meetings with business contacts, including potential agents, distributors, and partners, to position themselves to enter or expand their presence in these sectors.

Commercial Setting

The unprecedented interest of the United States-Iraq Business and Investment Conference (USIBIC) and the successful talks from the United States-Iraq Business Dialogue (USIBD), both held in mid-October 2009, have opened a unique economic and investment window of opportunity in the region. The mission will also follow Iraq's successful national elections, held on March 7, 2010.

Iraq continues to improve its security and to build an environment that is more conducive to trade and economic development. In November 2009, the Iraq Parliament passed an amendment to Investment Law No. 13 that would allow foreigners to own land for housing projects. It is designed to help streamline regulations and applications for foreign business and investment. Iraq's government has budgeted over $80 billion for infrastructure development, focusing on a number of large projects relating to construction, highways, railways, telecommunications, and security and defense.

Baghdad is the capital of Iraq. With a municipal population of 6.5 million (out of 29 million total in Iraq), it is the largest city in Iraq and the second largest in the region. Iraq's gross domestic product (GDP) grew from $57 billion in 2006 to $112 billion in 2009. GDP per capita has surpassed $3,000 and is forecast to exceed $4,500 by 2014. The U.S. is Iraq's 3rd largest trading partner, directly behind Syria and Turkey.

Iraq has a business culture in which deals are made on the strength of personal contacts. This trade mission offers U.S. company representatives an excellent introduction to a broad range of Iraq officials as well as an opportunity to begin identifying appropriate business partners.

Mission Goals

The goal of the trade mission is to provide U.S. participants with first-hand market information, access to government decision makers as appropriate and one-on-one meetings with business contacts, including potential agents, distributors, and partners, so that they can position themselves to enter or expand their presence in Iraq. Thus, the mission will:

• Improve U.S. industries' understanding of commercial opportunities in Iraq.

• Facilitate business meetings between U.S. and Iraqi businesses to expand U.S. exports to Iraq and U.S. commercial opportunities in Iraq.

• Introduce U.S. industry to the Baghdad business community and government leaders.

Mission Scenario

The Trade mission will take place in Baghdad, Iraq. Participants will meet with new business contacts, learn about the market by participating in Embassy briefings, and explore additional opportunities at networking receptions. Activities will include one-on-one meetings with pre-screened business prospects in both countries. (Note that the regular workweek in Iraq is Sunday through Thursday.)

Proposed Mission Timetable*

Day 1—Participants arrive in pre-arranged departure city and assemble on the preferred flight.

Day 2—Security Briefing.

Market Briefing.

One-on-One Business Appointments.

Hosted Dinner.

Day 3—Market Briefing.

Industry Sector Briefing.

Meetings with Government and Industry Officials.

One-on-One Business Appointments.

Hosted Dinner.

Day 4—Meetings with Government and Industry Officials.

Depart for the United States.

Participation Requirements

This trade mission is designed for a minimum of 15 and a maximum of 20 qualified companies. All parties interested in participating in the trade mission to Baghdad, Iraq, must complete and submit an application package for consideration by the U.S. Department of Commerce. All applicants will be evaluated on their ability to meet certain conditions and to best satisfy the selection criteria as outlined below. U.S. companies already doing business in the target sectors as well as U.S. companies seeking to enter these markets for the first time are encouraged to apply.

Fees and Expenses

After a company has been selected to participate in the mission, a payment to the U.S. Department of Commerce in the form of a participation fee is required. The participation fee will be $5,200 for a single participant for a small- or medium-sized enterprise (SME)* and $6,000 for a single participant for a large firm. Participants per company will be limited, due to space constraints. The additional participant fee will be $3,600 per individual, (this includes the individual person's security fee of $3,000). Applicants are encouraged to provide justification for each additional applicant in their application documents. Interpretation services for official activities are included in the fee. Expenses for travel, lodging, some meals, and incidentals will be the responsibility of each mission participant. Delegation members will be able to take advantage of Embassy-negotiated rates for hotel rooms.

* An SME is defined as a firm with 500 or fewer employees or that otherwise qualifies as small business under SBA regulations (see http://www.sba.gov/services/contracting opportunities/sizestandardstopics/index.html). Parent companies, affiliates, and subsidiaries will be considered when determining business size. The dual pricing reflects the Commercial Service's user fee schedule that became effective May 1, 2008 (for additional information see http://www.export.gov/newsletter/march2008/initiatives.html).

Conditions for Participation

• An applicant must submit a completed and signed mission application and supplemental application materials, including adequate information on the company's products and/or services, primary market objectives, and goals for participation. If the U.S. Department of Commerce receives an incomplete application, the Department may reject the application, request additional information, or take the lack of information into account when evaluating the application.

• Each applicant must also certify that the products and services it seeks to export through the mission are either produced in the United States, or, if not, marketed under the name of a U.S. firm and have at least fifty-one percent U.S. content.

Selection Criteria for Participation

Selection will be based on the following criteria:

• Suitability of the company's products or services to Iraq's market.

• Applicant's potential for business in Iraq, including likelihood of exports resulting from the mission.

• Consistency of the applicant's goals and objectives with the stated scope of the mission.

Referrals from political organizations and any documents containing references to partisan political activities (including political contributions) will be removed from an applicant's submission and will not be considered during the selection process.

Timeframe for Recruitment and Applications

Mission recruitment will be conducted in an open and public manner, including posting on the U.S. Department of Commerce trade missions calendar— http://www.ita.doc.gov/doctm/tmcal.html—and other Internet Web sites, publication in domestic trade publications and association newsletters, direct outreach to the Department's clients and distribution lists, posting in the Federal Register, and announcements at industry meetings, symposia, conferences, and trade shows.

Recruitment for the mission will begin immediately and conclude no later than July 19, 2010, by the close of business. Applications received after July 19, 2010, will be considered only if space and scheduling constraints permit.

Disclaimer, Security, and Transportation

Trade mission members participate in the trade mission and undertake related travel at their own risk and are advised to obtain insurance accordingly. Any question regarding insurance coverage must be resolved by the participant and its insurer of choice. The U.S. Government does not make any representations or guarantees as to the safety or security of participants. Companies should consult the State Department's travel warning for Iraq: http://travel.state.gov/travel/cis_pa_tw/tw/tw_921.html.

The U.S. Government does not make any representations or guarantees as to the commercial success of businesses which participate in this trade mission. ITA will coordinate with the U.S. Embassy in Baghdad to arrange for transportation of the mission participants to and from the airport and hotel. The hotel that will be the primary venue for the mission has strong security measures in place. Security will be furnished by the U.S. Embassy in Baghdad and private hotel security. The U.S. Government does not make any representations or guarantees as to the commercial success of businesses which participate in this trade mission.

FOR MORE INFORMATION AND AN APPLICATION PACKET CONTACT: U.S. Commercial Service Domestic Contacts:

Jessica Arnold, International Trade Specialist, U.S. Commercial Service, Washington, DC, Tel.: 202-482-2026, Iraqmission2010@trade.gov.

Joshua Leibowitz, International Trade Specialist, U.S. Commercial Service, Washington, DC, Tel.: 202-482-4437, Iraqmission2010@trade.gov.

U.S. Commercial Service Iraq Contact:

Brian McCleary, Senior Commercial Officer, U.S. Commercial Service, Baghdad, Brian.mccleary@mail.doc.gov.

Jessica Arnold,
Global Trade Programs, Commercial Service Trade Missions Program.

[FR Doc. 2010-9590 Filed 4-23-10; 8:45 am]

BILLING CODE 3510-FP-P